DEPARTMENT OF TRANSPORTATION

Federal Aviation Administration

14 CFR Part 71

[Docket No. FAA-2004-18697; Airspace Docket No. 04-AWP-4]

Establishment of Class E Airspace; Napa, CA

AGENCY: Federal Aviation Administration (FAA), DOT.

ACTION: Final rule.

SUMMARY: This action establishes a Class E airspace area to support instrument operations into Napa County Airport. This action will enable operations at 4000 feet above Mean Sea Level (MSL) along the Sausalito transition to the VOR RWY 6 instrument approach procedure. A review of airspace and air traffic control operations made this action necessary. The effect of this proposal is to provide adequate controlled airspace for Instrument Flight Rules (IFR) operations.

EFFECTIVE DATE: 0901 UTC, January 20, 2005.

FOR FURTHER INFORMATION CONTACT: Jeri Carson, Airspace Branch, Western Terminal Operations, Federal Aviation Administration, 15000 Aviation Boulevard, Lawndale, California; telephone (310) 725-6611.

SUPPLEMENTARY INFORMATION:

History

On Tuesday, August 17, 2004, the FAA proposed to amend 14 CFR part 71 to establish Class E airspace at Napa, CA. (69 FR 51019). The proposal was to establish additional controlled airspace extending upward from 700 feet or more above the surface of the earth to enable Oakland Air Route Traffic Control Central to route aircraft along the Sausalito transition at 4000 feet above Mean Sea Level. Interested parties were invited to participate in this rulemaking proceeding by submitting written comments on the proposal to the FAA. No comments objecting to the proposal were received. Class E airspace designations are published in paragraph 6005 of FAA Order 7400.9M dated August 30, 2004, and effective September 16, 2004, which is incorporated by reference in 14 CFR 71.1. The Class E airspace designation listed in this document will be published subsequently in the Order.

The Rule

This amendment to 14 CFR part 71 establishes Class E airspace at Napa, CA to accommodate aircraft executing instrument flight procedures into Napa County Airport. The FAA has determined that this regulation only involves an established body of technical regulations for which frequent and routine amendments are necessary to keep them operationally current. Therefore, this regulation—(1) is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this rule will not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR part 71 as follows:

PART 71—DESIGNATION OF CLASS A, CLASS B, CLASS C, CLASS D, AND CLASS E AIRSPACE AREAS; AIRWAYS; ROUTES; AND REPORTING POINTS

1. The authority citation for part 71 continues to read as follows:

Authority: 49 U.S.C. 106(g), 40103, 40113, 40120; E.O. 10854, 24 FR 95665, 3 CFR, 1959-1963 Comp., p. 389.

§ 71.1 [Amended]

2. The incorporation by reference in 14 CFR 71.1 of the Federal Aviation Administration Order 7400.9M, Airspace Designations and Reporting Points, dated August 30, 2004, and effective September 16, 2004, is amended as follows:

Paragraph 6005 Class E airspace areas extending upward from 700 feet or more above the surface of the earth.

* * * * *

AWP CA E5 Napa, CA [New]

Napa County Airport, CA

(Lat. 38°12′47″N, long. 122°16′50″ W)

That airspace extending upward from 700 feet above the surface within a 6.5 mile radius of the Napa County Airport, and that airspace bounded by a line beginning at lat. 38°02′07″ N, long. 122°39′41″ W; to lat. 37°55′05″ N, long. 122°30′56″ N; to lat. 37°51′19″ N, long. 122°30′56″ W; to lat. 37°50′26″ N, long. 122°36′17″ W; to the point of beginning.

* * * * *

Issued in Los Angeles, California, on October 18, 2004.
John Clancy,
Area Director, Western Terminal Operations.

[FR Doc. 04-24263 Filed 10-28-04; 8:45 am]

BILLING CODE 4910-13-M